SMALL BUSINESS ADMINISTRATION

[Declaration of Disaster #3320, Amdt. #6]

State of Washington

In accordance with a notice received from the Federal Emergency Management Agency, dated May 21, 2001, the above-numbered Declaration is hereby amended to extend the deadline for filing applications for physical damages as a result of this disaster to June 30, 2001.

All other information remains the same, i.e., the deadline for filing applications for economic injury the deadline is November 30, 2001.

(Catalog of Federal Domestic Assistance Program Nos. 59002 and 59008.)

Dated: May 29, 2001.
James E. Rivera,
Acting Associate Administrator for Disaster Assistance.

[FR Doc. 01-13954 Filed 6-1-01; 8:45 am]

BILLING CODE 8025-01-P